DEPARTMENT OF COMMERCE

National Oceanic and Atmospheric Administration

50 CFR Part 622

[Docket No. 100812345-2142-03]

RIN 0648-AY73

Fisheries of the Caribbean, Gulf of Mexico, and South Atlantic; Comprehensive Annual Catch Limit Amendment for the South Atlantic

AGENCY: National Marine Fisheries Service (NMFS), National Oceanic and Atmospheric Administration (NOAA), Department of Commerce.

ACTION: Final rule.

SUMMARY: NMFS issues this final rule to implement the Comprehensive Annual Catch Limit Amendment (Comprehensive ACL Amendment) to the Fishery Management Plans (FMPs) for the Snapper-Grouper Fishery of the South Atlantic Region (Snapper-Grouper FMP), the Golden Crab Fishery of the South Atlantic Region (Golden Crab FMP), the Dolphin and Wahoo Fishery off the Atlantic States (Dolphin and Wahoo FMP), and the Pelagic Sargassum Habitat of the South Atlantic Region (Sargassum FMP) as prepared and submitted by the South Atlantic Fishery Management Council (Council). This final rule specifies annual catch limits (ACLs) and accountability measures (AMs) for species in the Snapper-Grouper, Dolphin and Wahoo, and Golden Crab FMPs. This final rule also describes the current terminology and measures in place in the Sargassum FMP that are equivalent to ACLs and AMs. For Sargassum, this final rule does not specifically set an ACL because there is currently a commercial quota in place which functions as an ACL, and there are commercial closure provisions in the event the quota is met or projected to be met which functions as an AM. To implement the Snapper-Grouper FMP, this final rule revises the snapper-grouper fishery management unit (FMU), including the removal of some species, designation of ecosystem component (EC) species, and the development of species groups. This final rule also establishes a daily vessel limit for the recreational possession of wreckfish and creates a closed season for the wreckfish recreational sector. To implement the Dolphin and Wahoo FMP, this final rule prohibits recreational bag limit sales of dolphin from for-hire vessels, and sets a minimum size limit for dolphin off South Carolina that complements the existing minimum size limit off Georgia and Florida. The intent of this final rule is to specify ACLs for species not undergoing overfishing while maintaining catch levels consistent with achieving optimum yield (OY) for the resource.

DATES: This rule is effective April 16, 2012.

ADDRESSES: Electronic copies of the Comprehensive ACL Amendment, which includes a final environmental impact statement (FEIS), a regulatory flexibility analysis, and a regulatory impact review, may be obtained from the Southeast Regional Office Web site at http://sero.nmfs.noaa.gov/sf/pdfs/Comp%20ACL%20Am%20101411%20FINAL.pdf.

FOR FURTHER INFORMATION CONTACT: Nikhil Mehta, Southeast Regional Office, NMFS, telephone: 727-824-5305; email: nikhil.mehta@noaa.gov.

SUPPLEMENTARY INFORMATION: The fisheries for snapper-grouper, golden crab, dolphin and wahoo, and pelagic Sargassum habitat of the South Atlantic are managed under their respective FMPs. The FMPs were prepared by the Council and are implemented through regulations at 50 CFR part 622 under the authority of the Magnuson-Stevens Fishery Conservation and Management Act (Magnuson-Stevens Act).

On October, 20, 2011, NMFS published a notice of availability for the Comprehensive ACL Amendment and requested public comment (76 FR 65153). On December 1, 2011, NMFS published a proposed rule for the Comprehensive ACL Amendment and requested public comment (76 FR 74757). Additionally, on December 30, 2011, NMFS published an amended proposed rule for the Comprehensive ACL Amendment specific to a revised allowable biological catch (ABC) and a corresponding reduction to the commercial and recreational sector ACLs for wreckfish and requested public comment (76 FR 82264). On January 18, 2012, the Secretary of Commerce approved the Comprehensive ACL Amendment.

In the proposed rule that published on December 1, 2011 (76 FR 74757), the revised commercial quota for greater amberjack that was referenced in § 622.49(b)(11)(i)(A) was inadvertently not revised in the commercial quota section in § 622.42(e)(3). Subsequent proposed and final rulemaking, that is currently being developed as described in the Comprehensive ACL Amendment, will incorporate the revised commercial quota for greater amberjack of 769,388 lb (348,989 kg), gutted weight.

The proposed rules and the Comprehensive ACL Amendment outline the rationale for the actions contained in this final rule. A summary of the actions implemented by this final rule are provided below.

Snapper-Grouper FMP

This final rule identifies snapper-grouper species that do not need Federal management and can therefore be removed from the Snapper-Grouper FMP; designates selected snapper-grouper species as EC species; establishes species groups for selected snapper-grouper species for more effective management; establishes ACLs and AMs for the commercial and recreational sectors; establishes a daily vessel limit for the recreational possession of wreckfish and creates a closed season for the wreckfish recreational sector.

Designation of Species To Be Removed From the FMP

There are currently 73 species in the Snapper-Grouper FMP and the Council decided to remove 13 of these species based on Magnuson-Stevens Act National Standard 7 (NS 7) guidelines (50 CFR 600.340(b)(2)). This rule removes black margate, bluestriped grunt, crevalle jack, French grunt, grass porgy, porkfish, puddingwife, queen triggerfish, sheepshead, smallmouth grunt, Spanish grunt, tiger grouper, and yellow jack from the Snapper-Grouper FMP.

Designation of Ecosystem Component Species in the FMP

This rule designates six species as EC species based on an evaluation of the Magnuson-Stevens Act National Standard 1 (NS 1) Guidelines criteria to be considered when designating an EC species (50 CFR 600.310(d)(5)). This final rule designates bank sea bass, cottonwick, longspine porgy, ocean triggerfish, rock sea bass, and schoolmaster as EC species within the Snapper-Grouper FMP. The designation of these species as EC species retains them in the Snapper-Grouper FMP, but they are not required to have an ACL or AM (50 CFR 600.310 (c) and (d)). These EC species are also not subject to any other management actions within the Comprehensive ACL Amendment and are not subject to other Federal management measures such as recreational bag limits and size limits. Where those types of management measures are already in place, this final rule removes those applicable Federal regulations. Of the species to be designated as EC species, all are currently included in the aggregate snapper-grouper recreational bag limit and the schoolmaster has current size limit regulations.

Species Groupings

This final rule establishes species group or complex ACLs for selected snapper-grouper species within the Comprehensive ACL Amendment based on NS 1 Guidelines and as described in the Comprehensive ACL Amendment. This final rule revises the current snapper-grouper species grouping, and places selected snapper-grouper species into the complexes for: Deep-water species (yellowedge grouper, blueline tilefish, silk snapper, misty grouper, sand tilefish, queen snapper, black snapper, and blackfin snapper); shallow-water groupers (red hind, rock hind, yellowmouth grouper, yellowfin grouper, coney, and graysby); snappers (gray snapper, lane snapper, cubera snapper, dog snapper, and mahogany snapper), jacks (almaco jack, banded rudderfish, and lesser amberjack), grunts (white grunt, sailors choice, tomtate, and margate), and porgies (jolthead porgy, knobbed porgy, saucereye porgy, scup, and whitebone porgy). An ACL and AM is specified for each complex. Heavily targeted stocks, stocks with assessments, stocks with fishery closures where the ACL equals zero, or stocks that did not fall into any complex grouping will be managed under individual ACLs. Species not included in species groups but for which individual ACLs will be established are black grouper, wreckfish, Atlantic spadefish, greater amberjack, scamp, red porgy (recreational sector only), hogfish, yellowtail snapper, blue runner, bar jack, gray triggerfish, and mutton snapper.

ACLs

This final rule assigns initial ACLs for each of the species or species groups or complexes retained for Federal management in the Comprehensive ACL Amendment, excluding EC species. For selected snapper-grouper species or species groups that will have an ACL established through this final rule, the ACL is equal to both the OY and the allowable biological catch (ABC).

This final rule specifies an ACL for species in both the commercial and recreational sectors, except for red porgy. For red porgy, this final rule establishes an ACL for red porgy for the recreational sector only because a commercial quota is already in place for red porgy and functions as the equivalent of a commercial ACL.

For wreckfish specifically, a commercial quota is in place and is reduced through this final rule. The wreckfish commercial ACL established through this final rule will be equal to the revised commercial quota of 223,250 lb (101,264 kg), round weight. This final rule also establishes an ACL for the wreckfish recreational sector of 11,750 lb (5,330 kg), round weight. The wreckfish ACLs initially proposed in the rule that published on December 1, 2011 (76 FR 74757) were later proposed to be revised based on the November 2011 recommendation of the Council's Scientific and Statistical Committee (SSC) and the Council's concurrence of that recommended action. The revised sector ACLs for wreckfish were announced through an amended proposed rule published in the Federal Register on December 30, 2011 (76 FR 82264).

AMs

This final rule implements AMs for the commercial sector, excluding wreckfish. If the commercial ACL for a species or species group is exceeded during a fishing year, then the sector would be closed for the remainder of that fishing year for that specific species or species group. If the ACL for a species group is exceeded, all species contained within that group would be subject to their respective group AM. If a species, or at least a single member of a species group is designated as overfished, and the commercial ACL is exceeded, then during the following fishing year, the commercial sector ACL would be reduced by the amount of the commercial ACL overage in the prior fishing year. For red porgy, the commercial quota closure provisions function as the equivalent to an AM in the event that the red porgy commercial quota is exceeded in a fishing year.

The wreckfish commercial sector is managed under the individual transferrable quota (ITQ) program and this final rule will make the ITQ program itself the AM for the commercial sector because commercial landings are closely monitored and ITQ participants are limited to their specific ITQ allocation each fishing year.

For the recreational sector AMs, if the recreational ACL is exceeded for a species or species group in a fishing year, then during the next fishing year the NMFS Regional Administrator (RA) will monitor the recreational landings for a persistence in increased landings, and using the best scientific information available, will reduce the length of the recreational fishing season as necessary to ensure the recreational landings do not exceed the recreational ACL.

Wreckfish Management Measures

This final rule implements a one wreckfish per vessel daily recreational possession limit and a recreational wreckfish closed season of January 1 through June 30, and September 1 through December 31, each year.

Dolphin and Wahoo FMP

This final rule specifies ACLs and AMs for dolphin and wahoo. This final rule also prohibits recreational bag limit sales of dolphin harvested from for-hire vessels, and sets a minimum size limit for dolphin off South Carolina equal to the established minimum size limit off Georgia and Florida.

ACLs

This final rule establishes ACLs for dolphin and wahoo. For the ACLs established through this final rule, the ACL is equal to both the OY and the ABC. ACLs are specified for species in both the commercial and recreational sectors.

AMs

For the commercial sector, if the commercial ACL is exceeded during a fishing year, then the commercial sector would be closed for the remainder of that fishing year for that species. If a species is designated as overfished, and the commercial ACL is exceeded, then during the following fishing year, the commercial sector ACL would be reduced by the amount of the commercial ACL overage from the prior fishing year.

For the recreational sector, if the recreational ACL is exceeded for a species in a fishing year, then during the next fishing year the RA will monitor the recreational landings for a persistence in increased landings, and using the best scientific information available, reduce the length of the recreational fishing season as necessary to ensure the recreational landings do not exceed the recreational ACL.

Dolphin Bag Limit Sales

This final rule prohibits recreational bag limit sales of dolphin harvested by persons while onboard for-hire vessels. This prohibition ensures that the Federal regulations are fair and equitable by making sure that fish harvested by the recreational sector are not counted toward commercial quotas through submitted dealer reports and that total landings data are accurate. Accordingly, this final rule prohibits the sale of dolphin harvested or possessed under the bag limit by a vessel for which a Federal charter vessel/headboat permit for Atlantic dolphin and wahoo has been issued in the Atlantic exclusive economic zone (EEZ).

Dolphin Minimum Size Limit

This final rule establishes a minimum size limit for dolphin of 20 inches (50.8 cm) fork length to include the Federal waters off South Carolina. Currently, the dolphin minimum size limit is 20 inches (50.8 cm) fork length, for the Federal waters off Florida and Georgia. This final rule extends the applicability of that size limit from Florida through South Carolina to ensure consistency in the regulations as well as help prevent the large scale harvest of very small dolphin.

Golden Crab FMP

This final rule specifies an ACL and an AM for golden crab.

ACLs

This rule assigns an initial ACL for golden crab. The ACL is only specified for the commercial sector of the golden crab fishery as no recreational sector within the golden crab fishery exists and there are no identified golden crab recreational fishers. Therefore, a recreational ACL will not be established through this final rule.

AMs

If the golden crab commercial sector exceeds the ACL during a fishing year, then the sector would be closed for the remainder of that fishing year. If, at a later date golden crab were to be designated as overfished, and the commercial ACL was exceeded, then during the following fishing year, the sector ACL would be reduced by the amount of the commercial ACL overage from the prior fishing year.

Measures Contained in This Final Rule That Are Not in the Comprehensive ACL Amendment

This final rule revises the boundary coordinates for the harvest prohibition for pelagic Sargassum in the South Atlantic EEZ. The current northern boundary for this harvest prohibition defined at 50 CFR 622.35(g)(1)(i) is approximately 2 nautical miles (3.7 km) north of the intercouncil boundary between the Mid-Atlantic Fishery Management Council and the South Atlantic Council as defined at 50 CFR 600.105. The Sargassum FMP specifies that the northern boundary for management of Sargassum in the South Atlantic EEZ is the Virginia/North Carolina boundary, which is the boundary between the Mid-Atlantic and South Atlantic Councils. Therefore, this final rule specifies the latitude for the northern boundary of the management area for Sargassum, which is the boundary between the Mid-Atlantic and South Atlantic Councils.

Comments and Responses

A total of 91 comments were received on the Comprehensive ACL Amendment, the proposed rule, and the amended proposed rule. Comments were received from individuals, environmental organizations, recreational fishing associations, and a Federal agency. Additionally, a minority report was submitted by five members of the Council. One Federal agency submitted comments on the Comprehensive ACL Amendment. Of the 91 comments received, 12 contained remarks on the potential economic impacts of the Comprehensive ACL Amendment, specifically related to the actions implementing management measures for dolphin. Comments related to the actions contained in the Comprehensive ACL Amendment, the two proposed rules, and NMFS's respective responses are summarized and responded to below.

Comment 1: Several commenters supported the removal of 13 species from the snapper-grouper FMU. One commenter recommended this action be disapproved, and states that with the exception of the 3 species covered under the Florida Marine Life Species Rule (porkfish, puddingwife, and queen triggerfish), 10 of the 13 species (black margate, bluestriped grunt, crevalle jack, French grunt, grass porgy, sheepshead, smallmouth grunt, Spanish grunt, tiger grouper, and yellow jack), are either considered “likely to become subject to overfishing or overfished”, have average landings in excess of 35,000 lb (15,876 kg) per year, or remain unregulated in Florida, Georgia, and South Carolina.

Response: The Magnuson-Stevens Act National Standard 7 (NS 7) Guidelines state that the principle implicit in NS 7 is that not every fishery needs regulation. The Magnuson-Stevens Act requires fishery management councils to prepare FMPs only for overfished fisheries and for other fisheries where regulation would serve some useful purpose; and where the present or future benefits of regulation would justify the costs. Decisions about the composition of FMUs are an integral part of the plan development process, as FMUs define the specific species that are to be the target of Federal conservation and management. Magnuson-Stevens Act guidelines specify that FMUs may be organized around biological, geographic, economic, technical, social, or ecological goals (50 CFR 600.320(d)(1)). Of the 13 species proposed for removal from the FMU, 10 species (black margate, bluestriped grunt, crevalle jack, French grunt, grass porgy, porkfish, puddingwife, sheepshead, Spanish grunt, and yellow jack) have over 95 percent of their landings reported in state waters. Therefore, these species could be, or are already adequately managed by the states. Three of these species (porkfish, puddingwife, and queen triggerfish) are managed by Florida in their state waters under the Florida Marine Life Species Rule, which contains more stringent protections for the species than current Federal regulations. In addition, two species (tiger grouper and smallmouth grunt) identified for removal through this final rule had no reported commercial or recreational landings in Federal waters from 2005 to 2009. Therefore, any conservation and management measures applied to Federal waters are not expected to have a noticeable effect on the population of the 13 species identified for removal from the FMU. Furthermore, effects on bycatch would be minimal, and the socio-economic benefits associated with retaining management of the 13 snapper-grouper species would be relatively small.

Removal of these 13 species should not affect state regulations for these species, with the exception of South Carolina. In South Carolina, for all species in the snapper-grouper FMU, regulations in state waters (http://www.dnr.sc.gov/regulations.html) are currently structured to be compatible with the regulations in Federal waters. Therefore, any species that is no longer subject to Federal regulations would not be subject to state regulations in South Carolina waters, unless the state acted to establish such regulations. However, only two of the species identified for removal (sheepshead and crevalle jack) are harvested from South Carolina state waters. Additionally, while state compatibility with Federal regulations is often desirable from a management standpoint, managing state fisheries is not and was never an intended goal of the Snapper-Grouper FMP. The intent of the FMP is to manage snapper-grouper species within its “area of authority,” which includes Federal waters from the North Carolina/Virginia border through the Atlantic side of the Florida Keys.

The Council intends to evaluate landings in state and Federal waters and other available information on species removed from the snapper-grouper FMU every 5 years, or sooner if necessary. Monitoring and data collection will continue for all species that are sold to dealers or caught recreationally, even if not in the FMU. If the Council determines that a removed species is in need of Federal management, the species could be added back into the Snapper-Grouper FMP in the future.

Comment 2: NMFS and the Council should include criteria in addition to landings information such as species vulnerability, species misidentification issues, and species distribution to determine which species should be included or removed from the snapper-grouper FMU. NMFS and the Council should monitor and compare landings proportions of removed species in state and Federal waters.

Response: The Council and NMFS used the Magnuson-Stevens Act National Standards guidelines to inform this decision. National Standard 3 discusses the composition of an FMU and states that it may be organized around biological, geographic, economic, technical, social, or ecological goals (50 CFR 600.320(d)(1)). Moreover, NS 7 guidelines discuss seven factors to be used for determining whether to include species in an FMU for purposes of Federal conservation and management (50 CFR 600.340(b)(2). These factors include the importance of the fishery to the Nation and the regional economy, the condition of the stock, whether an FMP can improve or maintain that condition, the extent to which the fishery could be or already is adequately managed by states, the need to resolve competing interests and whether an FMP can further that resolution, the economic conditions of the fishery and whether an FMP can produce a more efficient utilization, the needs of a developing fishery and whether an FMP can foster the orderly growth, and the costs associated with the FMP balanced against benefits.

Using all of this information, the Council evaluated and analyzed whether all 73 species originally included in the snapper-grouper FMU were in need of Federal conservation and management. The Council concluded, and NMFS agrees, that Federal conservation and management is not needed for 13 species, and removed them from the FMP. Monitoring and data collection will continue for all species that are sold to dealers or caught recreationally, regardless of whether or not they are in the snapper-grouper FMU. If the Council determines that a removed species is in need of Federal management, the species could be added back into the snapper-grouper FMU in the future.

Comment 3: Several commenters supported the designation of six species in the snapper-grouper FMU (cottonwick, longspine porgy, bank sea bass, rock sea bass, ocean triggerfish, and schoolmaster), as EC species. One commenter recommended that the EC designation of bank sea bass be disapproved, due to the findings of a recent study for this species. Additionally, close monitoring of the other five designated EC species was recommended.

Response: The Council determined, and NMFS agrees that six species (cottonwick, longspine porgy, bank sea bass, rock sea bass, ocean triggerfish, and schoolmaster) currently contained in the snapper-grouper FMU most closely meet the criteria in the NS 1 Guidelines pertaining to EC species designation. An “exploratory assessment” conducted by some college students indicated the bank sea bass stock was overfished and undergoing overfishing, however, this “exploratory assessment” has not been peer-reviewed and the document states that all work in the report is considered to be preliminary (NOAA Technical Memorandum NMFS-SEFSC-167). As in the action to remove species from the Snapper-Grouper FMP, ongoing monitoring and data collection will continue for all species that are sold to dealers or caught recreationally, including those considered to be EC species. The EC status of a species may be reconsidered if new information becomes available and the Council determines a species is in need of Federal management and conservation.

Comment 4: Several commenters opposed the establishment of species groups, stating that fishing opportunities for many species could be lost due to one species of a group meeting the ACL. The treatment of all geographic areas as equal while establishing species groups is unfair, and dismisses scientific data that should be applied to the range of the species. The Marine Resources Monitoring Assessment and Prediction Program (MARMAP) data used in establishing species groups are based on small sample size and do not sample all areas such as South Florida and the Florida Keys. Furthermore, converting landings data from the Marine Recreational Fishing Statistical Survey (MRFSS) to the Marine Recreational Information Program (MRIP) will cause problems with accuracy.

Response: Species groups were not specified for all species in the snapper-grouper FMU. The approach for the establishment of species groups applied scientific data to the geographic range of species and included life history information, fishery-dependent data, and fishery-independent data. Data used in the establishment of species groups were not limited to those from MARMAP and MRFSS. Additionally, the analysis considered species distribution and therefore did not treat all geographic areas as equal. Identified associations between stocks, as described in Appendix O of the Comprehensive ACL Amendment, were used to develop 6 species groups for unassessed stocks and 12 individual ACLs for assessed and targeted species. The Council's preferred alternative to establish species groups within the snapper-grouper FMU is consistent with the guidelines at 50 CFR 600.320(d)(1) for establishing stock complexes.

The Council intends to evaluate landings and other available information on all species through stock assessment and fishery evaluation reports. Ongoing monitoring and data collection will continue for all species that are sold to dealers or caught recreationally, even if not included in complexes. If the Council determines that landings of any species within a species group have changed significantly, more appropriate species groupings may be established that reflect any changes in landings and the appropriateness of the organization of any specific species groups.

Comment 5: One commenter recommends partially disapproving the Comprehensive ACL Amendment since it fails to provide clear status determination criteria for overfishing as required by the Magnuson-Stevens Act. The commenter advises that the maximum fishing mortality threshold (MFMT) or overfishing limit (OFL) for 12 assessed snapper-grouper species be included in the amendment. Another commenter recommends that NMFS and the Council undertake a comprehensive review of OY and use the results from the analysis to modify the current OY definition of the Council.

Response: Status determination criteria, including MFMT, have been specified in previous amendments for species addressed by the Comprehensive ACL Amendment. When available, OFL has been specified in Southeast Data Assessment and Review assessments, and is then incorporated into the FMP via amendments. One purpose of the Comprehensive ACL Amendment is to identify an ABC control rule that can be utilized by the Council's SSC to determine and recommend an ABC to the Council. Another purpose is to specify ACLs and AMs to ensure overfishing does not occur for species not currently undergoing overfishing.

The NS 1 Guidelines describe the relationship between catch levels (ACLs and annual catch targets (ACTs)) and OY. These guidelines were used to modify the Council's current OY definition for species addressed in this final rule where OY was set equal to ACL. The NS 1 Guidelines state that if OY is set close to the maximum sustainable yield (MSY), the conservation and management measures in the fishery must have very good control of the amount of catch in order to achieve the OY without overfishing. Many species in the Comprehensive ACL Amendment are data poor, and the value for MSY is currently unknown. By setting the OY equal to the ACL, which is the catch level that ensures overfishing does not occur, there will be a greater likelihood that OY can be achieved without overfishing occurring.

Comment 6: Several commenters opposed the Council's ABC control rule and recommended an ABC control rule where the ABC equals the ACL. Two commenters supported the ABC control rule, but recommended future incorporation of the recommendations developed by the Council's SSC's “only reliable catch series” (ORCS) working group. One commenter recommended that the ABC control rule be disapproved and revised to define clear criteria for evaluating stock status as part of the Council decisionmaking process.

Response: The NS 1 Guidelines state that each fishery management council must establish an ABC control rule based on scientific advice from its SSC. The ABC control rule in the Comprehensive ACL Amendment was developed by the Council and its SSC and provides recommendations for the specification of ABCs based on a systematic inspection of sources of uncertainty, including variables such as susceptibility, vulnerability, bycatch, and discard information. The ABC control rule contains four levels, with a species assigned to a specific level depending on the amount of information available about the species. Stock status is one of the criteria used in determine the magnitude of the ABC under Level 1 of the ABC control rule. The ABC control rule for Level 1 assessed species has four dimensions included in the control rule framework: Assessment information; characterization of uncertainty; stock status; and productivity/susceptibility of the stock. Each dimension contains tiers that can be evaluated for each stock to determine a numerical score for scientific uncertainty. The uncertainty buffer, or difference between OFL and ABC, is expressed in terms of a reduction in the probability of overfishing. A greater buffer between the OFL and ABC is established for species that are overfished and/or undergoing overfishing.

The ABC can be determined using the ABC control rule for assessed and unassessed (data poor) species. The ABC control does not specify the ACL; the ACL is established by the Council based on the information as described in this final rule and in the Comprehensive ACL Amendment. The Council and the SSC will periodically evaluate the performance of the ABC control rule, and determine if it needs to be modified. In addition, the SSC intends to re-evaluate the unassessed species' portion of the ABC control rule in April of 2012 (including the incorporation of the findings of the SSC's ORCS working group), to assess whether modifications are necessary.

Comment 7: Two commenters recommended that the Comprehensive ACL Amendment should include an update on the implementation of the Council's standardized bycatch reporting methodology (SBRM), the Atlantic Coastal Cooperative Statistics Program (ACCSP), and describe why it is not suitable for monitoring current bycatch and dead discards in the fishery in the current state of implementation. The commenters also recommended that NMFS assess monitoring needs in order to move toward total catch accounting.

Response: Numerous studies are conducted to assess bycatch, including survivorship of discards. Some studies are continuous, but many studies are intermittent and subject to funding. In the snapper-grouper commercial sector, approximately 20 percent of permitted vessels are randomly selected each year to fill out supplementary logbooks to provide discard information. For the recreational sector, estimates of discards are available each year from the MRFSS and from headboat logbook data. Recent studies conducted with funding from the Cooperative Research Program, Sea Grant, the Marine Fisheries Initiative, and other sources have provided estimates of bycatch and release mortality for many species. The ACCSP methodology has been approved by the NMFS and the Council. However, it is unknown when funding will be available to implement the bycatch module of the ACCSP. In the interim, estimates of discards will continue to be available from MRFSS and MRIP and supplementary commercial and headboat logbooks. Furthermore, the Council recently approved an action in Amendment 18A to the Snapper-Grouper FMP (the notice of availability of Amendment 18A was published on January 31, 2012 (77 FR 4754)) which includes an action to enhance data reporting in the for-hire sector. The Council is also developing a generic amendment to improve data reporting by dealers and by the commercial sector of the snapper-grouper fishery and several other fisheries.

Comment 8: Several commenters opposed allocations between the commercial and recreational sectors due to their lack of confidence in the MRFSS data, and recommended waiting until the transition to MRIP has fully occurred. The Council's minority report also opposed the method used to establish allocations between sectors as well as the method used for calculating sector allocations. One commenter supported the Council's preferred approach to establish sector allocations in the Snapper-Grouper FMP.

Response: MRIP modifies the catch estimation method for recreational harvest for the period of 2004-2010 to address improvements for estimation algorithms. MRIP also addresses concerns raised in the 2006 National Resource Council review of MRFSS that estimation methods may not be consistent with the sampling probabilities of individually sampled access sites and could result in biased estimates. Revised estimates have been developed and are undergoing review, and will be applied to existing data going back to 2004. Correction of estimates prior to 2004 will also be considered in the future. As of September 2011, when the Council approved the Comprehensive ACL Amendment, the new MRIP estimates had not yet been released. NMFS notes that MRIP data became available in January of 2012. While the Council is fully aware of these ongoing issues, the Council and NMFS must still work to meet Magnuson-Stevens Act deadlines to establish the required ACLs and management measures to ensure overfishing does not occur. If needed, the Council may take action through a future amendment to revise the appropriate values.

The Council's preferred approach for sector allocations divides allocations between the recreational and commercial sectors based on landings information from 1986-2008 and 2006-2008, and therefore, considers past and present participation. The Council decided to establish allocations based on balancing long-term catch history with more recent catch history, and believes that approach to be a fair and equitable method to allocate fishery resources. Furthermore, the Council determined an additional benefit of this alternative was its inclusion of a mathematically transparent formula to specify allocations. If indicated by MRIP data, the Council may take action in a future amendment to revise sector allocations if the MRIP data indicates that an allocation adjustment is warranted.

Comment 9: Several commenters supported setting the ACLs in the Comprehensive ACL Amendment equal to the ABC as determined by the Council. Two commenters advised against this approach because it did not account for management uncertainty, and recommended setting a buffer between the ABC and ACL. One of the two commenters cited a failure on part of NMFS to ensure accountability for bycatch in the ACL-setting mechanism.

Response: The NS 1 Guidelines indicate that the choice of an ACL is directly related to the choice of an ABC, and an ACL may not exceed the ABC. The Council's preferred alternative for an ABC control rule takes uncertainty into consideration in the specification of an ABC regardless of the level for data availability. For assessed species where OFL is known (Level 1), the ABC control rule establishes a buffer between the OFL and the ABC. For extremely data poor species for which a precise OFL cannot be determined, the Council adopted a tiered approach for estimating the probability of exceeding an overfishing limit, and considered various factors in making appropriate decisions about constraining harvest levels to ensure the ABC is set at a level where overfishing would not occur. These factors include, but are not limited to, the available landings data, trends, whether a species is an ecosystem species, and whether a species is targeted or is primarily bycatch for other species. In reviewing this information, the Council decided it was unnecessary to establish an additional buffer between the ABC and ACL. For the commercial sectors of the fisheries contained in this amendment, the Council concluded that quota monitoring, in addition to the in-season and post-season AMs specified for the commercial sector in the Comprehensive ACL Amendment, are sufficient to account for management uncertainty. The in-season AMs would close the commercial sector when the commercial ACL is reached or projected to be reached and limit all harvest to the recreational bag limit once the closure is implemented. For overfished species only, the post-season AMs would correct for any ACL overages by implementing a payback provision in the following year based on the overage and the best scientific information available. To account for the possibility of additional uncertainty within the recreational sector, and consistent with the National Standard 1 Guidelines, the Council is establishing ACTs for stocks within the Snapper-Grouper and Dolphin and Wahoo FMPs that would serve as a target and as a performance measure for management to avoid the ACL from being exceeded. Additionally, the recreational sector AMs provide for shortening the length of the recreational fishing season by the amount necessary to ensure the recreational ACL is not exceeded. Consistent with the National Standard 1 Guidelines, if NMFS and the Council conclude that an ACL or ACT is being chronically exceeded, and post-season AMs are repeatedly implemented to correct for ACL overages, the Council could revise the ACTs, ACLs, and associated AMs (50 CFR 600.310(g)(3)).

Comment 10: Several commenters supported the Council's decision to not set an ACT for the commercial sector for species included in the Comprehensive ACL Amendment. Two commenters opposed this approach and recommend that an ACT be established for the commercial sector with a buffer between the ACL and the ACT.

Response: The NS 1 Guidelines state that setting of ACTs is left to the discretion of each fishery management council and should be based on the level of management uncertainty in each fishery. For the commercial sectors of the fisheries contained in this amendment, the Council concluded that quota monitoring, in addition to the in-season and post-season AMs specified for the commercial sector in the Comprehensive ACL Amendment, are sufficient to account for management uncertainty. The in-season AMs would close the commercial sector when the commercial ACL is reached or projected to be reached and limit all harvest to the recreational bag limit once the closure is implemented. For overfished species only, the post-season AMs would correct for any ACL overages by implementing a payback provision in the following year based on the overage and the best scientific information available. Therefore, the Council determined, and NMFS agreed, that a commercial ACT is not necessary at this time.

Comment 11: Several commenters were opposed to the Council's preferred approaches to setting ACTs and AMs for the recreational sector for species included in the Comprehensive ACL Amendment. They preferred not to have any ACTs/AMs, and supported the use of average landings calculated over a 3-year period to specify post-season AMs for the recreational sector.

Two commenters supported the approach for setting ACTs and AMs for the recreational sector outlined in the Comprehensive ACL Amendment, but supported the subalternative that specifies a post-season AM of adjusting the recreational fishing season to account for ACL overages.

Response: The Council determined that the level of management uncertainty for the recreational sector is currently high enough to warrant the specification of recreational ACTs. The Comprehensive ACL Amendment specified a recreational sector ACT, which is set lower than the recreational sector ACL by 50 percent or the ACL multiplied by one minus the percent standard error, whichever is greater. This approach also establishes an ACT for the recreational sector that serves as a performance measure. The NS 1 Guidelines recommend a performance standard by which the efficiency of any system of ACLs and AMs can be measured and evaluated. If tracking the ACT through time reveals a trend in ACT and ACL overages, the entire system of ACTs and ACLs would be reevaluated and some corrective action could be linked to the ACT in the future to prevent the ACL from being exceeded. The Council concluded that the preferred alternative best met the need to account for management uncertainty in the recreational sector for species that currently lack AMs.

The Council selected recreational sector AMs that would be triggered if the annual landings exceed the recreational sector ACL in a given year. In-season AMs were not chosen for the recreational sector because in-season monitoring of recreational landings is difficult, and there is a significant delay in the availability of recreational data. There would likely be considerable uncertainty in imposing in-season AMs for species in the recreational sector, particularly for species that are infrequently taken. Therefore, post-season AMs were determined to be more appropriate for the recreational sector. Implementation of post-season AMs for the recreational sector ensures that the amount of the previous year's ACL overage is accounted for in the subsequent year's adjustment via a shortened fishing season. Furthermore, monitoring of landings data also allows for any anomalies or data reporting irregularities to be taken into account before the AMs would be effective.

Comment 12: Two commenters, and the Council's minority report, opposed the reduction of the ACL for wreckfish. The commenters stated that the best available science was not used to make the determination, would cause adverse impacts to the vested participants, and its failure could threaten NMFS' catch share initiative in the Southeast Region.

Response: The specification of the ABC for wreckfish was discussed extensively by the Council's SSC. In April 2010, the SSC determined the wreckfish ABC was unknown because effort and landings were reduced to the extent that landings information was confidential. The SSC indicated the Council should consider an ACL that did not exceed 200,000 lb (90,718 kg), round weight. Additionally, the SSC discussed setting an ABC for wreckfish during their August 2010 meeting. The SSC stated that a 2001 assessment indicated wreckfish stock depletion occurred at higher historical levels of effort and that the catch reductions may have occurred mainly from gear restrictions, a spawning season closure, and the wreckfish ITQ implementation. The SSC stated that a depletion-based stock reduction analysis (Level 2 of the ABC control rule) or depletion-corrected average catch (DCAC) (Level 3 of the ABC control rule) estimate could be calculated, but recent wreckfish landings are confidential; therefore, the SSC was not able to perform the calculations to produce these estimates. The SSC agreed the 2001 assessment was dated and no longer applied to current wreckfish landings and conditions. The SSC additionally concluded that the ABC control rule based on catch-only data (Level 4 of the ABC control rule) should be used even though a dated stock assessment exists for wreckfish. Therefore, in September of 2010, the SSC recommended setting the ABC at the average historical catch (1997-recent) of 250,000 lb (113,398 kg), round weight. As a result of the confidentially of wreckfish commercial data, a more precise level could not be determined.

A DCAC analysis for wreckfish was subsequently completed and presented to the SSC at its November 2011 meeting. The SSC reviewed and adopted the DCAC methodology to develop a new ABC recommendation of 235,000 lb (106,594 kg), round weight for wreckfish, in accordance with the ABC control rule contained in the Comprehensive ACL Amendment. There is greater confidence in the ABC estimate of 235,000 lb (106,594 kg) based on the Level 3 DCAC analysis than in the previous 250,000 lb (113,398 kg) estimate derived from Level 4 of the ABC control rule. The Council reviewed the recommended revised ABC value in December 2011 and decided to further adjust the wreckfish ACL to reflect the revised ABC value. The ACL for wreckfish contained in the initial proposed rule for the Comprehensive ACL Amendment (76 FR 74757, December 1, 2011) was 250,000 lb (113,398 kg), round weight. Because that ACL then exceeded the catch level recommendation of the Council's SSC, an amended proposed rule was published on December 30, 2011 (76 FR 82264), which proposed to further revise the wreckfish ACL to 235,000 lb (106,594 kg), round weight based on the revised ABC value. This final rule sets the ACL for wreckfish at 235,000 lb (106,594 kg), round weight with the commercial ACL for wreckfish at 223,250 lb (101,264 kg), round weight, and the recreational ACL at 11,750 lb (5,330 kg), round weight.

Additionally, a notice of availability for Amendment 20A to the Snapper-Grouper FMP was published on January 12, 2012 (77 FR 1908), which addresses further management measures for the commercial sector of the wreckfish component of the snapper-grouper fishery. Actions included in Amendment 20A are intended to allow commercial fishermen with wreckfish shares to better maximize harvest potential within the constraints of the commercial ACL implemented through this final rule.

Comment 13: Several commenters were opposed to the Council's recreational allocation for wreckfish in the Comprehensive ACL Amendment and some recommended a recreational allocation of 10 percent, while others recommended the recreational allocation be set at 50 percent.

Response: Wreckfish has been managed under a commercial ITQ program since 1992. In recent years, recreational fishermen have reported an increased incidence of wreckfish encounters during recreational trips. Because wreckfish are caught in very deep water (1,476-1,969 ft (450-600 m)), it is assumed that all incidentally caught wreckfish die upon reaching the surface and must be released dead since only commercial wreckfish shareholders are allowed to retain the fish. By establishing an allocation for the recreational sector, the Council is attempting to reduce wreckfish bycatch mortality by allowing fishermen to retain wreckfish. Through this final rule, a wreckfish recreational sector is established by allocating 5 percent of the wreckfish stock ACL to the recreational sector. This 5 percent wreckfish recreational allocation serves to mitigate bycatch mortality of any occasionally encountered wreckfish during recreational trips. The Council concluded that any recreational catch of wreckfish is likely to be small and a larger allocation of the wreckfish stock ACL was unnecessary.

Comment 14: Several commenters opposed the jurisdictional allocation of black grouper, yellowtail snapper, and mutton snapper between the Gulf of Mexico and the South Atlantic Councils. Some of the commenters recommended the establishment of an equal allocation of 50 percent between the two jurisdictional areas.

Response: This final rule establishes a jurisdictional allocation for black grouper, yellowtail snapper, and mutton snapper, based on the Florida Keys (Monroe County) jurisdictional boundary between the Gulf of Mexico and South Atlantic Councils. Currently, the ABC for each of these species applies across Council jurisdictions, and stock assessments for each of these three species treat each species as a single stock. This creates an issue for management, because the two Councils manage these species under two separate FMPs. For example, black grouper is also part of the “other shallow water grouper” species complex in the Gulf of Mexico individual fishing quota program. Without the jurisdictional allocations established in this final rule, these three species would need to be managed jointly, with both Councils having to manage a common set of regulations. Furthermore, the status quo allocations would not adhere to “best available science” and not be based on post-stratified data which captures actual harvest more accurately between the two jurisdictions. Both Councils agreed to the allocation procedure for the three species, which considers both historical and recent data, and provides extra emphasis to more recent landings. A jurisdictional allocation of 50 percent for the Gulf of Mexico and 50 percent for the South Atlantic would not consider historical and recent data with respect to landings. The Council concluded that the allocation procedure chosen in the Comprehensive ACL Amendment provides an accurate biological basis for management and ensures fairness and equity in practice.

Comment 15: One commenter and the authors of the minority report opposed the allocation of dolphin in the Comprehensive ACL Amendment between the recreational and commercial sectors stating that the commercial allocation for dolphin has never been exceeded, and opposed the formula used to calculate the dolphin sector allocation.

Response: Currently, a non-binding allocation of 13 percent for the commercial harvest and 87 percent for the recreational harvest is in place for dolphin. This final rule establishes a binding allocation that is used to specify sector specific ACLs. The Comprehensive ACL Amendment uses a formula that would equal 50 percent * average of long catch range (lb) 1999-2008 + 50 percent * average of recent catch trend (lb) 2006-2008, thereby balancing the total time series with more recent data. This is consistent with the Council's approach to sector allocations in other fisheries, such as snapper-grouper. This method provides the added biological benefits of accurately accounting for the fishing effort in both sectors, in addition to a fair, equitable, and mathematically transparent approach.

Comment 16: One commenter opposed Alternative 2 in Action 25, and questioned the economic analysis for the action addressing management measures for dolphin, particularly relating to the prohibition of bag limit sales of dolphin from for-hire vessels. The commenter asserted the estimated effects provided in the proposed rule (76 FR 74757, December 1, 2011) were incomplete and inaccurate.

Response: Action 25 addresses management measures for dolphin. Essentially, only two revisions were made to existing management measures. The 20-inch fork-length size limit now extends from waters off the south Atlantic coast of Florida through waters off of South Carolina, and bag limit sales of dolphin from for-hire vessels are prohibited unless they are commercially permitted and not operating under hire. In preparing the economic analysis conducted for this action NMFS utilized the best scientific information available, including data recorded in the Federal logbook program. In addition to the requirement that for-hire vessels possess a Federal dolphin-wahoo for-hire permit to harvest dolphin in the EEZ, with the exception of vessels fishing north of 39° N. lat., for-hire vessels must also possess a Federal commercial dolphin-wahoo permit to legally sell dolphin harvested when operating under hire. All vessels with a Federal commercial dolphin-wahoo permit are annually provided with a Federal logbook. A logbook record, including information pertaining to any sale of fish, must be completed for each commercial fishing trip taken by the permitted vessel and reported to NMFS. Therefore, analysis of logbook data is the appropriate method of analyzing the expected economic effects of this action and the analysis should be complete and sufficient. As discussed in the proposed rule (76 FR 74757, December 1, 2011), based on an analysis of logbook data, the prohibition on the sale of dolphin harvested under the bag limit by for-hire vessels is expected to result in an annual loss of approximately $71,000 in gross revenue by all for-hire vessels.

However, proper reporting through the Federal logbook system may not occur in all instances. In that case, then the estimates of the economic effects of the prohibition of the sale of dolphin harvested under the bag limit provided in the proposed rule (76 FR 74757, December 1, 2011) could constitute a lower bound of the estimated economic effects. In order to estimate an upper bound accounting for reporting discrepancies, NMFS re-analyzed the potential economic effects of the prohibition of the sale of dolphin harvested under the bag limit by for-hire vessels using an alternative methodology and data, as described below. Over the period 2005-2009, the average annual revenue from dolphin identified as legal sales potentially originating from for-hire trips in the Atlantic was approximately $369,000 (nominal dollars, i.e., dollars not adjusted for inflation), or approximately $184 per for-hire vessel with a Federal dolphin-wahoo for-hire permit (2,012 vessels). If the practice of selling dolphin harvested on for-hire trips is limited to charterboats, the number of potentially affected vessels is reduced to 1,927 (an estimated 85 headboat vessels participate in the Federal logbook program, though it is unknown how many of these vessels have a Federal dolphin-wahoo for-hire permit) and the average revenue associated with dolphin sales increases to approximately $192 per vessel. Because these data represent average results, some vessels would be expected to depend more on dolphin sales, and other vessels less. No information is available, however, to demonstrate that a substantial number of entities are significantly dependent on these revenues.

The commenter stated that in the Florida Keys alone there are 278 for-hire vessels that sell dolphin from for-hire trips. As an example of potential significant dependency, if all the identified revenues potentially originating from legal dolphin sales by for-hire vessels during 2005-2009 (approximately $369,000) were attributed to only these 278 entities, the average effect per entity would be a reduction in ex-vessel revenue of approximately $1,330, or less than 3 percent of average annual gross revenue from 2005-2009, estimated to range from approximately $51,000 to $69,000. In summary, although the new analysis of dolphin sales from the for-hire industry produced an estimate of the total potential economic effects that is much greater than the effect reported in the proposed rule (76 FR 74757, December 1, 2011), approximately $369,000 versus $71,000, the effects remain below the required threshold for significance when evaluated at the individual vessel level.

Comment 17: Twelve commenters opposed the management measure for dolphin that prohibits bag limit sales from for-hire vessels, citing financial hardship. The commenters also stated that the sales of dolphin harvested under the bag limit are vital to the survival of charter fishing operations.

Response: Currently, for-hire fishermen who possess the necessary state and Federal permits can sell bag limit quantities of dolphin, and NMFS acknowledges that a prohibition of such sales could have negative economic effects on some entities. During 2005-2009, the average annual revenue from dolphin identified as legal sales potentially originating from for-hire trips in the Atlantic was approximately $369,000 (nominal dollars), or approximately $184 per for-hire vessel with a Federal dolphin-wahoo for-hire permit (2,012 vessels). As a result of the new catch limits for dolphin, the Council determined that when for-hire fishermen sell their catch to dealers, catch is counted toward the commercial quota resulting in the commercial ACL being reached sooner. The Council decided that prohibiting the sale would help to improve the accuracy of total landings and benefit both sectors. Therefore, this final rule prohibits the sale of dolphin harvested under the recreational bag limit in the for-hire sector.

Comment 18: One commenter cited all the actions addressing the Dolphin and Wahoo FMP in the Comprehensive ACL Amendment as being inconsistent with National Standard Guidelines under the Magnuson-Stevens Act. Specific concerns were: The MSY and ACL were below a reasonable level that would achieve OY; the allocation formula for these should not have used data from MRFSS because of data uncertainty; stocks of dolphin are not restricted to the Atlantic east coast but also occur in the Caribbean and Gulf of Mexico; and sector allocations will lead to unnecessary discards by commercial fishermen.

Response: The Comprehensive ACL Amendment does not revise the MSY for dolphin, and prior to this amendment, the value for OY was unknown. By setting the OY equal to the ACL, which is the catch level that ensures overfishing does not occur, there would be greater assurance that OY could be achieved without overfishing. The Council's preferred approach for establishing sector allocations divides allocations between the recreational and commercial sectors based on landings information from 1986-2008 and 2006-2008, and therefore, considers past and present participation. The Council decided to establish allocations based on balancing long-term catch history with recent catch history, and believes it to be the most fair and equitable way to allocate fishery resources. The Council determined an additional benefit of this alternative was its inclusion of a transparent formula to specify allocations.

While dolphin may be genetically similar in the Gulf of Mexico, Caribbean, and South Atlantic, the Dolphin and Wahoo FMP only addresses dolphin that occur in the Atlantic and the Magnuson-Stevens Act requires the Council to specify ACLs and AMs for all species in their FMPs.

Comment 19: Commercial fishermen will have to make longer trips to target other species after a dolphin closure occurs, possibly affecting safety at sea.

Response: The ABC and ACL for dolphin are set above recent average catch levels. Therefore, a closure of the dolphin commercial sector is not anticipated based on recent catch history, and NMFS does not foresee any new safety at sea issues arising for dolphin fishers that will be imposed by the actions contained in this final rule.

Comment 20: One commenter recommended that dolphin and wahoo should be managed under the NMFS Highly Migratory Species program to avoid duplication by Councils and allow for international management.

Response: The Manguons-Stevens Act's definition of the phrase “highly migratory species” explicitly lists which species are to be included, and Congress did not include dolphin in the definition (16 U.S.C. 1802(21)). In 2004, the Council, in cooperation with the Mid-Atlantic and New England Councils, and with the approval of the Secretary of Commerce, developed the Dolphin and Wahoo FMP for the Atlantic. The Magnuson-Stevens Act requires that a fishery management council specify ACLs for species in its FMPs at a level that may not exceed the fishing level recommendation of its SSC, and that the ACLs prevent overfishing. Therefore, the Council was required to specify an ACL for dolphin.

Comment 21: Several commenters opposed the harvest of Sargassum, and there were no comments supporting its harvest.

Response: There has not been any commercial harvest of Sargassum since 1998, and there are no known data indicating Sargassum is a significant bycatch in any other fishery in the South Atlantic Region. Existing FMPs may use terms and values that are similar to, associated with, or may be equivalent to ACL and AM in many fisheries for which annual specifications are set for different stocks or stock complexes. In these situations, NMFS suggests that as fishery management councils revise their FMPs, they use the same terms as set forth in the NS 1 Guidelines. Therefore, this final rule does not specifically set an ACL for Sargassum, because there is currently a commercial quota in place which serves as a functional ACL. When the quota is reached, the fishery would close, which serves as a functional AM.

Measures Contained in the Comprehensive ACL Amendment That Are Not in This Final Rule

The Comprehensive ACL Amendment also contains actions that are not specifically addressed through this rulemaking. These items include specifying ABC control rules, allocations for the commercial and recreational sectors, and jurisdictional allocations between the South Atlantic Council and the Gulf of Mexico Fishery Management Council (Gulf Council) for three species.

The Comprehensive ACL Amendment established ABC control rules for the Snapper-Grouper, Dolphin and Wahoo, Golden Crab, and Sargassum FMPs, which were used to establish ABC. These standard methods for determining the appropriate ABC allow the Council's SSC to determine an objective and efficient assignment of ABC that takes into account scientific uncertainty regarding the harvest levels that would lead to overfishing. Additionally, the amendment establishes allocations for the commercial and recreational sectors for snapper-grouper species and dolphin and wahoo that do not currently have allocations specified.

The Comprehensive ACL Amendment also defines the apportionment for black grouper, yellowtail snapper, and mutton snapper across the jurisdictional boundary between the South Atlantic Council and the Gulf Council. These three species are managed separately by both the Gulf and South Atlantic Councils, but each has a stock assessment and ABC that covers both Councils areas of jurisdiction. Therefore, based on historical landings and recommendations from their respective SSCs, the two councils have agreed to apportion those overarching ABCs between them, and the amendment establishes ABC limits for the South Atlantic Council's area of jurisdiction.

Classification

The Regional Administrator, Southeast Region, NMFS has determined that this final rule is necessary for the conservation and management of the species within the Comprehensive ACL Amendment and is consistent with the Magnuson-Stevens Act, and other applicable law.

This final rule has been determined to be not significant for purposes of Executive Order 12866.

The Magnuson-Stevens Act provides the statutory basis for this final rule.

The Chief Counsel for Regulation of the Department of Commerce certified to the Chief Counsel for Advocacy of the Small Business Administration during the proposed rule stage that this action would not have a significant economic impact on a substantial number of small entities. The factual basis for the certification was published in the proposed rule and the amended proposed rule and is not repeated here. Two comments were received on the analysis of the estimated economic effect of the prohibition of the sale of dolphin harvested under the bag limit by for-hire vessels provided in the proposed rule (76 FR 74757, December 1, 2011). The first comment asserted the estimated effects provided in the proposed rule (76 FR 74757, December 1, 2011) were incomplete and inaccurate and the second comment stated that the revenue from these sales is vital to the survival of charter fishing operations. In preparing the economic analysis conducted for this action NMFS utilized the best scientific information available, including data recorded in the Federal logbook program. In addition to the requirement that for-hire vessels possess a Federal dolphin-wahoo for-hire permit to harvest dolphin in the EEZ, with the exception of vessels fishing north of 39° N. lat., for-hire vessels must also possess a Federal commercial dolphin-wahoo permit to legally sell dolphin harvested when operating under hire. All vessels with a Federal commercial dolphin-wahoo permit are annually provided with a Federal logbook. A logbook record, including information pertaining to any sale of fish, must be completed for each commercial fishing trip taken by the permitted vessel and reported to NMFS. Therefore, analysis of logbook data is the appropriate method of analyzing the expected economic effects of this action and the analysis provided in the proposed rule (76 FR 74757, December 1, 2011) should be accurate and sufficient. As discussed in the proposed rule (76 FR 74757, December 1, 2011), based on analysis of logbook data, the prohibition on the sale of dolphin harvested under the bag limit by for-hire vessels is expected to result in an annual loss of approximately $71,000 in gross revenue to the for-hire sector.

However, proper reporting through the Federal logbook system may not occur in all instances. In that case, then the estimates of the economic effects of the prohibition of the sale of dolphin harvested under the bag limit provided in the proposed rule (76 FR 74757, December 1, 2011) could constitute a lower bound of the actual potential economic effects. In order to estimate an upper bound accounting for reporting discrepancies, NMFS re-analyzed the potential economic effects of the prohibition of the sale of dolphin harvested under the bag limit by for-hire vessels using an alternative methodology and data, as described below. Regardless of whether fish are harvested on a commercial or for-hire trip, or Federal reporting requirements are followed, all legal fish sales in the Atlantic are captured by state-managed data programs. Each state provides these data to NMFS in aggregate-form by species and harvest gear-type. Because the data are aggregated by species, identification of the fishing entity (vessel), trip type (commercial or for-hire), or possession of any Federal permit is not possible. However, the aggregation and inclusion of harvest by gear in the data provided to NMFS allows partitioning of the data into sector categories that reasonably represent commercial fishing versus for-hire fishing. Specifically, in the new analysis, NMFS assumes all harvest using trawl, pot, longline, dredge, and electric or hydraulic reel gear comes from commercial vessels. NMFS assumes all harvest using hand line, rod and reel, manual reel, or troll line gear comes from vessels under hire. The rationale for this categorization, beyond the assertion that certain gear types are logically commercial gear, is the understanding that a key motivation of recreational fishing is sport and the challenge of landing fish. As a result, any gear, even electric or hydraulic reels, which reduces this experience, is logically inappropriate as for-hire gear. NMFS notes, however, that minimal harvest was recorded with electric or hydraulic reels, so the inclusion of harvest by these gear with for-hire harvest would not substantially affect the following results. NMFS also notes that, the assumption that all hand line, rod and reel, manual reel, or troll line harvest originates from a for-hire trip may overestimate the actual harvest and sale by the for-hire sector because it is possible that some commercial vessels also harvest dolphin with this gear.

Based on these assumptions, over the period of 2005-2009, the average annual revenue from dolphin identified as legal sales potentially originating from for-hire trips in the Atlantic was approximately $369,000 (nominal dollars), or approximately $184 per for-hire vessel with a Federal dolphin-wahoo for-hire permit (2,012 vessels). If the practice of selling dolphin harvested on for-hire trips is limited to charterboats, the number of potentially affected vessels is reduced to 1,927 (an estimated 85 headboat vessels participate in the Federal logbook program, though it is unknown how many of these vessels have a Federal for-hire dolphin-wahoo permit) and the average revenue associated with dolphin sales increases to approximately $192 per vessel. Because these estimated economic effects represent average results, some vessels would be expected to receive higher losses in revenue, and other vessels lower losses. Information has not been identified, however, to demonstrate that a substantial number of entities are significantly dependent on these revenues. The first economic specific comment to the proposed rule stated that in the Florida Keys alone there are 278 for-hire vessels that sell dolphin from for-hire trips. If the sale of dolphin harvested under the bag limit is limited to these 278 vessels, which is not expected to be the case, and all the identified revenues potentially originating from legal dolphin sales by for-hire vessels (approximately $369,000 annually) were attributed to only these 278 entities, the average effect per entity would be an annual reduction in ex-vessel revenue of approximately $1,330, or less than 3 percent of average annual gross revenue, estimated to range from approximately $51,000 to $69,000 per for-hire vessel.

In summary, although the new analysis of dolphin sales from the for-hire industry produced an estimate of the total potential economic effects that is much greater than the effect reported in the proposed rule (76 FR 74757, December 1, 2012), approximately $369,000 versus $71,000, the effects remain below the required threshold for significance when evaluated at the individual vessel level.

With respect to the second comment that the sales of dolphin harvested under the bag limit are vital to the survival of charter fishing operations, the results provided in the new analysis above are relevant to consideration of this comment. While some for-hire vessels are likely more dependent on the sale of dolphin harvested under the bag limit than other vessels, available data does not substantiate any claim that these sales are vital to charter fishing operations in general.

No other substantive comments were received on the certification provided in the proposed rule (76 FR 74757, December 1, 2011). No changes were made to the proposed rule as a result of the public comments. The analysis of potential economic effects provided above does not impact the certification made by the Chief Counsel for Regulation of the Department of Commerce to the Chief Counsel for Advocacy of the Small Business Administration that this rulemaking is not expected to have a significant economic impact on a substantial number of small entities. As a result, a final regulatory flexibility analysis was not required and none was prepared.

List of Subjects in 50 CFR Part 622

Fisheries, Fishing, Puerto Rico, Reporting and recordkeeping requirements, Virgin Islands.

Dated: March 13, 2012.
Alan D. Risenhoover,
Acting Deputy Assistant Administrator for Regulatory Programs, National Marine Fisheries Service.

For the reasons set out in the preamble, 50 CFR part 622 is amended as follows:

PART 622—FISHERIES OF THE CARIBBEAN, GULF, AND SOUTH ATLANTIC

1. The authority citation for part 622 continues to read as follows:

Authority: 16 U.S.C. 1801 et seq.

2. In § 622.1, paragraph (b), Table 1, footnote 2 is revised to read as follows:

§ 622.1 Purpose and scope.

* * * * *

(b) * * *

Table 1.—FMPs Implemented Under Part 622

* * * * *

² Black sea bass and scup are not managed by the FMP or regulated by this part north of 35°15.9′ N. lat., the latitude of Cape Hatteras Light, NC.

* * * * *

3. In § 622.2, the definition for “South Atlantic shallow-water grouper (SASWG)” is revised to read as follows:

§ 622.2 Definitions and acronyms.

* * * * *

South Atlantic shallow-water grouper (SASWG) means, in the South Atlantic, gag, black grouper, red grouper, scamp, red hind, rock hind, yellowmouth grouper, yellowfin grouper, graysby, and coney.

* * * * *

4. In § 622.4, the first sentence in paragraph (a)(2)(vii) is revised to read as follows:

§ 622.4 Permits and fees.

(a) * * *

(2) * * *

(vii) Wreckfish. For a person aboard a vessel to be eligible for exemption from the bag limit for wreckfish in or from the South Atlantic EEZ, to fish under a quota for wreckfish in or from the South Atlantic EEZ, or to sell wreckfish in or from the South Atlantic EEZ, a commercial vessel permit for wreckfish and a commercial permit for South Atlantic snapper-grouper must have been issued to the vessel and must be on board. * * *

* * * * *

5. In § 622.5, paragraphs (a)(1)(iv)(C)(2) and (c)(5)(iii) are revised to read as follows:

§ 622.5 Recordkeeping and reporting.

* * * * *

(a) * * *

(1) * * *

(iv) * * *

(C) * * *

(2) Make available to an authorized officer upon request all records of commercial offloadings, purchases, or sales of wreckfish.

* * * * *

(c) * * *

(5) * * *

(iii) A dealer who has been issued a dealer permit for wreckfish, as required under § 622.4(a)(4), must make available to an authorized officer upon request all records of commercial offloadings, purchases, or sales of wreckfish.

* * * * *

6. In § 622.15, paragraphs (c)(4) and (d)(3) and (4) are revised to read as follows:

§ 622.15 Wreckfish individual transferable quota (ITQ) system.

* * * * *

(c) * * *

(4) Wreckfish may not be possessed on board a fishing vessel that has been issued a commercial vessel permit for South Atlantic snapper-grouper and a commercial vessel permit for wreckfish—

(i) In an amount exceeding the total of the ITQ coupons on board the vessel; or

(ii) That does not have on board logbook forms for that fishing trip, as required under § 622.5(a)(1)(iv)(C)(1).

* * * * *

(d) * * *

(3) A wreckfish harvested by a vessel that has been issued a commercial vessel permit for South Atlantic snapper-grouper and a commercial vessel permit for wreckfish may be offloaded from a fishing vessel only between 8 a.m. and 5 p.m., local time.

(4) If a wreckfish harvested by a vessel that has been issued a commercial vessel permit for South Atlantic snapper-grouper and a commercial vessel permit for wreckfish is to be offloaded at a location other than a fixed facility of a dealer who holds a dealer permit for wreckfish, as required under § 622.4(a)(4), the wreckfish shareholder or the vessel operator must advise the NMFS Office for Law Enforcement, Southeast Region, St. Petersburg, FL, by telephone (727-824-5344), of the location not less than 24 hours prior to offloading.

7. In § 622.35, paragraph (g)(1)(i) is revised, the first sentence in paragraph (j) is revised, and paragraph (p) is added to read as follows:

§ 622.35 Atlantic EEZ seasonal and/or area closures.

* * * * *

(g) * * *

(1) * * *

(i) No person may harvest pelagic sargassum in the South Atlantic EEZ between 36°33′01.0″ N. lat. (directly east from the Virginia/North Carolina boundary) and 34° N. lat., within 100 nautical miles east of the North Carolina coast.

* * * * *

(j) * * * During January through April each year, no person may fish for, harvest, or possess in or from the South Atlantic EEZ any SASWG (gag, black grouper, red grouper, scamp, red hind, rock hind, yellowmouth grouper, yellowfin grouper, graysby, and coney). * * *

* * * * *

(p) Closures of the recreational sector for wreckfish. The recreational sector for wreckfish in or from the South Atlantic EEZ is closed from January 1 through June 30, and September 1 through December 31, each year. During a closure, the bag and possession limit for wreckfish in or from the South Atlantic EEZ is zero.

8. In § 622.37, paragraph (e)(1)(iii) and paragraph (h) are revised to read as follows:

§ 622.37 Size limits.

* * * * *

(e) * * *

(1) * * *

(iii) Blackfin, cubera, dog, gray, mahogany, queen, silk, and yellowtail snappers—12 inches (30.5 cm), TL.

* * * * *

(h) Dolphin in the Atlantic off Florida, Georgia, and South Carolina—20 inches (50.8 cm), fork length.

9. In § 622.39, paragraph (d)(1)(viii) is revised and paragraph (d)(1)(x) is added to read as follows:

§ 622.39 Bag and possession limits.

* * * * *

(d) * * *

(1) * * *

(viii) South Atlantic snapper-grouper, combined—20. However, excluded from this 20-fish bag limit are tomtate, blue runner, ecosystem component species (specified in Table 4 of Appendix A to part 622), and those specified in paragraphs (d)(1)(i) through (vii) and paragraphs (d)(1)(ix) and (x) of this section.

* * * * *

(x) No more than one fish per vessel may be a wreckfish.

* * * * *

10. In § 622.42, the first sentence of paragraph (f) is revised to read as follows:

§ 622.42 Quotas.

* * * * *

(f) Wreckfish. The quota for wreckfish applies to wreckfish shareholders, or their employees, contractors, or agents, and is 223,250 lb (101,264 kg), round weight. * * *

* * * * *

11. In § 622.43, paragraph (a)(6) is removed and reserved and the heading of paragraph (a)(5) is revised to read as follows:

§ 622.43 Closures.

(a) * * *

(5) South Atlantic gag, black grouper, red grouper, greater amberjack, snowy grouper, golden tilefish, vermilion snapper, black sea bass, red porgy, and wreckfish. * * *

* * * * *

12. In § 622.45, the first sentence in paragraph (d)(8) and paragraphs (i)(2) and (i)(3) are revised to read as follows:

§ 622.45 Restrictions on sale/purchase.

* * * * *

(d) * * *

(8) During January through April, no person may sell or purchase a gag, black grouper, red grouper, scamp, red hind, rock hind, yellowmouth grouper, yellowfin grouper, graysby, or coney harvested from or possessed in the South Atlantic EEZ or, if harvested or possessed by a vessel for which a valid Federal commercial permit for South Atlantic snapper-grouper has been issued, harvested from the South Atlantic, i.e., in state or Federal waters. * * *

* * * * *

(i) * * *

(2) In addition to the provisions of paragraph (i)(1) of this section, a person may not sell dolphin or wahoo possessed under the bag limit harvested in the Atlantic EEZ by a vessel while it is operating as a charter vessel or headboat. A dolphin or wahoo harvested or possessed by a vessel that is operating as a charter vessel or headboat with a Federal charter vessel/headboat permit for Atlantic dolphin and wahoo may not be purchased or sold if harvested from the Atlantic EEZ.

(3) Dolphin or wahoo harvested in the Atlantic EEZ may be purchased only by a dealer who has a permit for Atlantic dolphin and wahoo and only from a vessel authorized to sell dolphin or wahoo under paragraph (i)(1) of this section.

13. In § 622.49, paragraphs (b)(7) through (24) and paragraphs (e) through (g) are added to read as follows:

§ 622.49 Annual catch limits (ACLs) and accountability measures (AMs).

* * * * *

(b) * * *

(7) Black grouper—(i) Commercial sector—(A) If commercial landings for black grouper, as estimated by the SRD, reach or are projected to reach the applicable ACL in paragraph (b)(7)(i)(C) of this section, the AA will file a notification with the Office of the Federal Register to close the commercial sector for the remainder of the fishing year. On and after the effective date of such a notification, all sale or purchase of black grouper is prohibited and harvest or possession of this species in or from the South Atlantic EEZ is limited to the bag and possession limit. This bag and possession limit applies in the South Atlantic on board a vessel for which a valid Federal charter vessel/headboat permit for South Atlantic snapper-grouper has been issued, without regard to where such species were harvested, i.e. in state or Federal waters.

(B) If commercial landings exceed the ACL, and black grouper are overfished, based on the most recent Status of U.S. Fisheries Report to Congress, the AA will file a notification with the Office of the Federal Register, at or near the beginning of the following fishing year to reduce the ACL for that following year by the amount of the overage in the prior fishing year.

(C) The applicable commercial ACLs, in round weight, are 90,575 lb (41,084 kg) for 2012, 94,571 lb (42,897 kg) for 2013, and 96,844 lb (43,928 kg) for 2014 and subsequent fishing years.

(ii) Recreational sector. If recreational landings for black grouper, as estimated by the SRD, exceed the applicable ACL, then during the following fishing year, recreational landings will be monitored for a persistence in increased landings and, if necessary, the AA will file a notification with the Office of the Federal Register, to reduce the length of the following recreational fishing season by the amount necessary to ensure recreational landings do not exceed the recreational ACL in the following fishing year. However, the length of the recreational season will also not be reduced during the following fishing year if the RA determines, using the best scientific information available, that a reduction in the length of the following fishing season is unnecessary. The applicable recreational ACLs, in round weight, are 155,020 lb (70,316 kg) for 2012, 161,859 lb (73,418 kg) for 2013, and 165,750 lb (75,183 kg) for 2014 and subsequent fishing years.

(iii) Without regard to overfished status, if the combined commercial and recreational sector ACLs, as estimated by the SRD, are exceeded in a fishing year, then during the following fishing year, the AA will file a notification with the Office of the Federal Register stating that both the commercial and recreational sectors will not have an increase in their respective sector ACLs during that following fishing year. The applicable combined commercial and recreational sector ACLs, in round weight are 245,595 lb (111,400 kg) for 2012, 256,430 lb (116,315 kg) for 2013, and 262,594 lb (119,111 kg) for 2014 and subsequent fishing years.

(8) Deep-water complex (including yellowedge grouper, blueline tilefish, silk snapper, misty grouper, queen snapper, sand tilefish, black snapper, and blackfin snapper)—(i) Commercial sector—(A) If commercial landings for the deep-water complex, as estimated by the SRD, reach or are projected to reach the commercial ACL of 343,869 lb (155,976 kg), round weight, the AA will file a notification with the Office of the Federal Register to close the commercial sector for this complex for the remainder of the fishing year. On and after the effective date of such a notification, all sale or purchase of deep-water complex species is prohibited and harvest or possession of these species in or from the South Atlantic EEZ is limited to the bag and possession limit. This bag and possession limit applies in the South Atlantic on board a vessel for which a valid Federal charter vessel/headboat permit for South Atlantic snapper-grouper has been issued, without regard to where such species were harvested, i.e. in state or Federal waters.

(B) If commercial landings exceed the ACL, and at least one of the species in the deep-water complex is overfished, based on the most recent Status of U.S. Fisheries Report to Congress, the AA will file a notification with the Office of the Federal Register, at or near the beginning of the following fishing year to reduce the ACL for that following year by the amount of the overage in the prior fishing year.

(ii) Recreational sector. If recreational landings for the deep-water complex, as estimated by the SRD, exceed the recreational ACL of 332,039 lb (150,610 kg), round weight, then during the following fishing year, recreational landings will be monitored for a persistence in increased landings and, if necessary, the AA will file a notification with the Office of the Federal Register, to reduce the length of the following recreational fishing season by the amount necessary to ensure recreational landings do not exceed the recreational ACL in the following fishing year. However, the length of the recreational season will also not be reduced during the following fishing year if the RA determines, using the best scientific information available, that a reduction in the length of the following fishing season is unnecessary.

(9) Scamp—(i) Commercial sector—(A) If commercial landings for scamp, as estimated by the SRD, reach or are projected to reach the commercial ACL of 341,636 lb (154,963 kg), round weight, the AA will file a notification with the Office of the Federal Register to close the commercial sector for the remainder of the fishing year. On and after the effective date of such a notification, all sale or purchase of scamp is prohibited and harvest or possession of this species in or from the South Atlantic EEZ is limited to the bag and possession limit. This bag and possession limit applies in the South Atlantic on board a vessel for which a valid Federal charter vessel/headboat permit for South Atlantic snapper-grouper has been issued, without regard to where such species were harvested, i.e. in state or Federal waters.

(B) If commercial landings exceed the ACL, and scamp are overfished, based on the most recent Status of U.S. Fisheries Report to Congress, the AA will file a notification with the Office of the Federal Register, at or near the beginning of the following fishing year to reduce the ACL for that following year by the amount of the overage in the prior fishing year.

(ii) Recreational sector. If recreational landings for scamp, as estimated by the SRD, exceed the recreational ACL of 150,936 lb (68,463 kg), round weight, then during the following fishing year, recreational landings will be monitored for a persistence in increased landings and, if necessary, the AA will file a notification with the Office of the Federal Register, to reduce the length of the following recreational fishing season by the amount necessary to ensure recreational landings do not exceed the recreational ACL in the following fishing year. However, the length of the recreational season will also not be reduced during the following fishing year if the RA determines, using the best scientific information available, that a reduction in the length of the following fishing season is unnecessary.

(10) Other SASWG combined (including red hind, rock hind, yellowmouth grouper, yellowfin grouper, coney, and graysby)—(i) Commercial sector—(A) If commercial landings for other SASWG, as estimated by the SRD, reach or are projected to reach the commercial ACL of 49,488 lb (22,447 kg), round weight, the AA will file a notification with the Office of the Federal Register to close the commercial sector for this complex for the remainder of the fishing year. On and after the effective date of such a notification, all sale or purchase of other SASWG is prohibited, and harvest or possession of these species in or from the South Atlantic EEZ is limited to the bag and possession limit. This bag and possession limit applies in the South Atlantic on board a vessel for which a valid Federal charter vessel/headboat permit for South Atlantic snapper-grouper has been issued, without regard to where such species were harvested, i.e. in state or Federal waters.

(B) If commercial landings exceed the ACL, and at least one of the species in the other SASWG complex is overfished, based on the most recent status of U.S. Fisheries Report to Congress, the AA will file a notification with the Office of the Federal Register, at or near the beginning of the following fishing year to reduce the ACL for that following year by the amount of the overage in the prior fishing year.

(ii) Recreational sector. If recreational landings for other SASWG, as estimated by the SRD, exceed the recreational ACL of 48,329 lb (21,922 kg), round weight, then during the following fishing year, recreational landings will be monitored for a persistence in increased landings and, if necessary, the AA will file a notification with the Office of the Federal Register, to reduce the length of the following recreational fishing season by the amount necessary to ensure recreational landings do not exceed the recreational ACL in the following fishing year. However, the length of the recreational season will also not be reduced during the following fishing year if the RA determines, using the best scientific information available, that a reduction in the length of the following fishing season is unnecessary.

(11) Greater amberjack—(i) Commercial sector—(A) If commercial landings for greater amberjack, as estimated by the SRD, reach or are projected to reach the quota specified in § 622.42(e)(3), the AA will file a notification with the Office of the Federal Register to close the commercial sector for the remainder of the fishing year.

(B) If commercial landings exceed the ACL, and greater amberjack are overfished, based on the most recent Status of U.S. Fisheries Report to Congress, the AA will file a notification with the Office of the Federal Register, at or near the beginning of the following fishing year to reduce the ACL for that following year by the amount of the overage in the prior fishing year.

(ii) Recreational sector. If recreational landings for greater amberjack, as estimated by the SRD, exceed the recreational ACL of 1,167,837 lb (529,722 kg), round weight, then during the following fishing year, recreational landings will be monitored for a persistence in increased landings and, if necessary, the AA will file a notification with the Office of the Federal Register, to reduce the length of the following recreational fishing season by the amount necessary to ensure recreational landings do not exceed the recreational ACL in the following fishing year. However, the length of the recreational season will also not be reduced during the following fishing year if the RA determines, using the best scientific information available, that a reduction in the length of the following fishing season is unnecessary.

(12) Lesser amberjack, almaco jack, and banded rudderfish complex, combined—(i) Commercial sector—(A) If commercial landings for lesser amberjack, almaco jack, and banded rudderfish, combined, as estimated by the SRD, reach or are projected to reach their combined commercial ACL of 193,999 lb (87,996 kg), round weight, the AA will file a notification with the Office of the Federal Register to close the commercial sector for this complex for the remainder of the fishing year. On and after the effective date of such a notification, all sale or purchase of lesser amberjack, almaco jack, and banded rudderfish is prohibited, and harvest or possession of these species in or from the South Atlantic EEZ is limited to the bag and possession limit. This bag and possession limit applies in the South Atlantic on board a vessel for which a valid Federal charter vessel/headboat permit for South Atlantic snapper-grouper has been issued, without regard to where such species were harvested, i.e. in state or Federal waters.

(B) If the combined commercial landings for the complex exceed the ACL, and at least one of the species in the complex (lesser amberjack, almaco jack, and banded rudderfish) is overfished, based on the most recent Status of U.S. Fisheries Report to Congress, the AA will file a notification with the Office of the Federal Register, at or near the beginning of the following fishing year to reduce the ACL for that following year by the amount of the overage in the prior fishing year.

(ii) Recreational sector. If recreational landings for the complex (lesser amberjack, almaco jack, and banded rudderfish), combined, as estimated by the SRD, exceed the recreational ACL of 261,490 lb (118,610 kg), round weight, then during the following fishing year, recreational landings will be monitored for a persistence in increased landings and, if necessary, the AA will file a notification with the Office of the Federal Register, to reduce the length of the following recreational fishing season by the amount necessary to ensure recreational landings do not exceed the recreational ACL in the following fishing year. However, the length of the recreational season will also not be reduced during the following fishing year if the RA determines, using the best scientific information available, that a reduction in the length of the following fishing season is unnecessary.

(13) Bar jack—(i) Commercial sector—(A) If commercial landings for bar jack, as estimated by the SRD, reach or are projected to reach the commercial ACL of 6,686 lb (3,033 kg), round weight, the AA will file a notification with the Office of the Federal Register to close the commercial sector for the remainder of the fishing year. On and after the effective date of such a notification, all sale or purchase of bar jack is prohibited and harvest or possession of this species in or from the South Atlantic EEZ is limited to the bag and possession limit. This bag and possession limit applies in the South Atlantic on board a vessel for which a valid Federal charter vessel/headboat permit for South Atlantic snapper-grouper has been issued, without regard to where such species were harvested, i.e. in state or Federal waters.

(B) If commercial landings exceed the ACL, and bar jack is overfished, based on the most recent Status of U.S. Fisheries Report to Congress, the AA will file a notification with the Office of the Federal Register, at or near the beginning of the following fishing year to reduce the ACL for that following year by the amount of the overage in the prior fishing year.

(ii) Recreational sector. If recreational landings for bar jack, as estimated by the SRD, exceed the recreational ACL of 13,834 lb (6,275 kg), round weight, then during the following fishing year, recreational landings will be monitored for a persistence in increased landings and, if necessary, the AA will file a notification with the Office of the Federal Register, to reduce the length of the following recreational fishing season by the amount necessary to ensure recreational landings do not exceed the recreational ACL in the following fishing year. However, the length of the recreational season will also not be reduced during the following fishing year if the RA determines, using the best scientific information available, that a reduction in the length of the following fishing season is unnecessary.

(14) Yellowtail snapper—(i) Commercial sector—(A) If commercial landings for yellowtail snapper, as estimated by the SRD, reach or are projected to reach the commercial ACL of 1,142,589 lb (518,270 kg), round weight, the AA will file a notification with the Office of the Federal Register to close the commercial sector for the remainder of the fishing year. On and after the effective date of such a notification, all sale or purchase of yellowtail snapper is prohibited and harvest or possession of this species in or from the South Atlantic EEZ is limited to the bag and possession limit. This bag and possession limit applies in the South Atlantic on board a vessel for which a valid Federal charter vessel/headboat permit for South Atlantic snapper-grouper has been issued, without regard to where such species were harvested, i.e. in state or Federal waters.

(B) If commercial landings exceed the ACL, and yellowtail snapper is overfished, based on the most recent Status of U.S. Fisheries Report to Congress, the AA will file a notification with the Office of the Federal Register, at or near the beginning of the following fishing year to reduce the ACL for that following year by the amount of the overage in the prior fishing year.

(ii) Recreational sector. If recreational landings for yellowtail snapper, as estimated by the SRD, exceed the recreational ACL of 1,031,286 lb (467,783 kg), round weight, then during the following fishing year, recreational landings will be monitored for a persistence in increased landings and, if necessary, the AA will file a notification with the Office of the Federal Register, to reduce the length of the following recreational fishing season by the amount necessary to ensure recreational landings do not exceed the recreational ACL in the following fishing year. However, the length of the recreational season will also not be reduced during the following fishing year if the RA determines, using the best scientific information available, that a reduction in the length of the following fishing season is unnecessary.

(15) Mutton snapper—(i) Commercial sector—(A) If commercial landings for mutton snapper, as estimated by the SRD, reach or are projected to reach the commercial ACL of 157,743 lb (71,551 kg), round weight, the AA will file a notification with the Office of the Federal Register to close the commercial sector for the remainder of the fishing year. On and after the effective date of such a notification, all sale or purchase of mutton snapper is prohibited and harvest or possession of this species in or from the South Atlantic EEZ is limited to the bag and possession limit. This bag and possession limit applies in the South Atlantic on board a vessel for which a valid Federal charter vessel/headboat permit for South Atlantic snapper-grouper has been issued, without regard to where such species were harvested, i.e. in state or Federal waters.

(B) If commercial landings exceed the ACL, and mutton snapper are overfished, based on the most recent Status of U.S. Fisheries Report to Congress, the AA will file a notification with the Office of the Federal Register, at or near the beginning of the following fishing year to reduce the ACL for that following year by the amount of the overage in the prior fishing year.

(ii) Recreational sector. If recreational landings for mutton snapper, as estimated by the SRD, exceed the recreational ACL of 768,857 lb (348,748 kg), round weight, then during the following fishing year, recreational landings will be monitored for a persistence in increased landings and, if necessary, the AA will file a notification with the Office of the Federal Register, to reduce the length of the following recreational fishing season by the amount necessary to ensure recreational landings do not exceed the recreational ACL in the following fishing year. However, the length of the recreational season will also not be reduced during the following fishing year if the RA determines, using the best scientific information available, that a reduction in the length of the following fishing season is unnecessary.

(16) Other snappers combined (including cubera snapper, gray snapper, lane snapper, dog snapper, and mahogany snapper) complex—(i) Commercial sector—(A) If commercial landings combined for this other snappers complex, as estimated by the SRD, reach or are projected to reach the combined complex commercial ACL of 204,552 lb (92,783 kg), round weight, the AA will file a notification with the Office of the Federal Register to close the commercial sector for this complex for the remainder of the fishing year. On and after the effective date of such a notification, all sale or purchase of the snappers in this complex is prohibited, and harvest or possession of these species in or from the South Atlantic EEZ is limited to the bag and possession limit. This bag and possession limit applies in the South Atlantic on board a vessel for which a valid Federal charter vessel/headboat permit for South Atlantic snapper-grouper has been issued, without regard to where such species were harvested, i.e. in state or Federal waters.

(B) If the combined commercial landings for this complex exceed the ACL, and at least one of the species in the other snappers complex is overfished, based on the most recent Status of U.S. Fisheries Report to Congress, the AA will file a notification with the Office of the Federal Register, at or near the beginning of the following fishing year to reduce the ACL for that following year by the amount of the overage in the prior fishing year.

(ii) Recreational sector. If the combined recreational landings for this snappers complex, as estimated by the SRD, exceed the recreational ACL of 882,388 lb (400,244 kg), round weight, then during the following fishing year, recreational landings will be monitored for a persistence in increased landings and, if necessary, the AA will file a notification with the Office of the Federal Register, to reduce the length of the following recreational fishing season by the amount necessary to ensure recreational landings do not exceed the recreational ACL for this complex in the following fishing year. However, the length of the recreational season will also not be reduced during the following fishing year if the RA determines, using the best scientific information available, that a reduction in the length of the following fishing season is unnecessary.

(17) Gray triggerfish—(i) Commercial sector—(A) If commercial landings for gray triggerfish, as estimated by the SRD, reach or are projected to reach the commercial ACL of 305,262 lb (138,465 kg), round weight, the AA will file a notification with the Office of the Federal Register to close the commercial sector for the remainder of the fishing year. On and after the effective date of such a notification, all sale or purchase of gray triggerfish is prohibited and harvest or possession of this species in or from the South Atlantic EEZ is limited to the bag and possession limit. This bag and possession limit applies in the South Atlantic on board a vessel for which a valid Federal charter vessel/headboat permit for South Atlantic snapper-grouper has been issued, without regard to where such species were harvested, i.e. in state or Federal waters.

(B) If commercial landings exceed the ACL, and gray triggerfish are overfished, based on the most recent Status of U.S. Fisheries Report to Congress, the AA will file a notification with the Office of the Federal Register, at or near the beginning of the following fishing year to reduce the ACL for that following year by the amount of the overage in the prior fishing year.

(ii) Recreational sector. If recreational landings for gray triggerfish, as estimated by the SRD, exceed the recreational ACL of 367,303 lb (166,606 kg), round weight, then during the following fishing year, recreational landings will be monitored for a persistence in increased landings and, if necessary, the AA will file a notification with the Office of the Federal Register, to reduce the length of the following recreational fishing season by the amount necessary to ensure recreational landings do not exceed the recreational ACL in the following fishing year. However, the length of the recreational season will also not be reduced during the following fishing year if the RA determines, using the best scientific information available, that a reduction in the length of the following fishing season is unnecessary.

(18) Wreckfish—(i) Commercial sector. The ITQ program for wreckfish in the South Atlantic serves as the accountability measures for commercial wreckfish. The commercial ACL for wreckfish is equal to the commercial quota specified in § 622.42(f).

(ii) Recreational sector. If recreational landings for wreckfish, as estimated by the SRD, exceed the recreational ACL of 11,750 lb (5,330 kg), round weight, then during the following fishing year, recreational landings will be monitored for a persistence in increased landings and, if necessary, the AA will file a notification with the Office of the Federal Register, to reduce the length of the following recreational fishing season by the amount necessary to ensure recreational landings do not exceed the recreational ACL in the following fishing year. However, the length of the recreational season will also not be reduced during the following fishing year if the RA determines, using the best scientific information available, that a reduction in the length of the following fishing season is unnecessary.

(19) Blue runner—(i) Commercial sector—(A) If commercial landings for blue runner, as estimated by the SRD, reach or are projected to reach the commercial ACL of 188,329 lb (85,425 kg), round weight, the AA will file a notification with the Office of the Federal Register to close the commercial sector for the remainder of the fishing year. On and after the effective date of such a notification, all sale or purchase of blue runner is prohibited and harvest or possession of this species in or from the South Atlantic EEZ is limited to the bag and possession limit. This bag and possession limit applies in the South Atlantic on board a vessel for which a valid Federal charter vessel/headboat permit for South Atlantic snapper-grouper has been issued, without regard to where such species were harvested, i.e. in state or Federal waters.

(B) If commercial landings exceed the ACL, and blue runner are overfished, based on the most recent Status of U.S. Fisheries Report to Congress, the AA will file a notification with the Office of the Federal Register, at or near the beginning of the following fishing year to reduce the ACL for that following year by the amount of the overage in the prior fishing year.

(ii) Recreational sector. If recreational landings for blue runner, as estimated by the SRD, exceed the recreational ACL of 1,101,612 lb (499,683 kg), round weight, then during the following fishing year, recreational landings will be monitored for a persistence in increased landings and, if necessary, the AA will file a notification with the Office of the Federal Register, to reduce the length of the following recreational fishing season by the amount necessary to ensure recreational landings do not exceed the recreational ACL in the following fishing year. However, the length of the recreational season will also not be reduced during the following fishing year if the RA determines, using the best scientific information available, that a reduction in the length of the following fishing season is unnecessary.

(20) Atlantic spadefish—(i) Commercial sector—(A) If commercial landings for Atlantic spadefish, as estimated by the SRD, reach or are projected to reach the commercial ACL of 36,476 lb (16,545 kg), round weight, the AA will file a notification with the Office of the Federal Register to close the commercial sector for the remainder of the fishing year. On and after the effective date of such a notification, all sale or purchase of Atlantic spadefish is prohibited and harvest or possession of this species in or from the South Atlantic EEZ is limited to the bag and possession limit. This bag and possession limit applies in the South Atlantic on board a vessel for which a valid Federal charter vessel/headboat permit for South Atlantic snapper-grouper has been issued, without regard to where such species were harvested, i.e. in state or Federal waters.

(B) If commercial landings exceed the ACL, and Atlantic spadefish are overfished, based on the most recent Status of U.S. Fisheries Report to Congress, the AA will file a notification with the Office of the Federal Register, at or near the beginning of the following fishing year to reduce the ACL for that following year by the amount of the overage in the prior fishing year.

(ii) Recreational sector. If recreational landings for Atlantic spadefish, as estimated by the SRD, exceed the recreational ACL of 246,365 lb (111,749 kg), round weight, then during the following fishing year, recreational landings will be monitored for a persistence in increased landings and, if necessary, the AA will file a notification with the Office of the Federal Register, to reduce the length of the following recreational fishing season by the amount necessary to ensure recreational landings do not exceed the recreational ACL in the following fishing year. However, the length of the recreational season will also not be reduced during the following fishing year if the RA determines, using the best scientific information available, that a reduction in the length of the following fishing season is unnecessary.

(21) Hogfish—(i) Commercial sector—(A) If commercial landings for hogfish, as estimated by the SRD, reach or are projected to reach the commercial ACL of 48,772 lb (22,123 kg), round weight, the AA will file a notification with the Office of the Federal Register to close the commercial sector for the remainder of the fishing year. On and after the effective date of such a notification, all sale or purchase of hogfish is prohibited and harvest or possession of this species in or from the South Atlantic EEZ is limited to the bag and possession limit. This bag and possession limit applies in the South Atlantic on board a vessel for which a valid Federal charter vessel/headboat permit for South Atlantic snapper-grouper has been issued, without regard to where such species were harvested, i.e. in state or Federal waters.

(B) If commercial landings exceed the ACL, and hogfish are overfished, based on the most recent Status of U.S. Fisheries Report to Congress, the AA will file a notification with the Office of the Federal Register, at or near the beginning of the following fishing year to reduce the ACL for that following year by the amount of the overage in the prior fishing year.

(ii) Recreational sector. If recreational landings for hogfish, as estimated by the SRD, exceed the recreational ACL of 98,866 lb (44,845 kg), round weight, then during the following fishing year, recreational landings will be monitored for a persistence in increased landings and, if necessary, the AA will file a notification with the Office of the Federal Register, to reduce the length of the following recreational fishing season by the amount necessary to ensure recreational landings do not exceed the recreational ACL in the following fishing year. However, the length of the recreational season will also not be reduced during the following fishing year if the RA determines, using the best scientific information available, that a reduction in the length of the following fishing season is unnecessary.

(22) Red porgy—(i) Commercial sector—(A) If commercial landings for red porgy, as estimated by the SRD, reach or are projected to reach the quota specified in § 622.42(e)(6), the AA will file a notification with the Office of the Federal Register to close the commercial sector for the remainder of the fishing year.

(B) If commercial landings exceed the ACL, and red porgy are overfished, based on the most recent Status of U.S. Fisheries Report to Congress, the AA will file a notification with the Office of the Federal Register, at or near the beginning of the following fishing year to reduce the ACL for that following year by the amount of the overage in the prior fishing year.

(ii) Recreational sector. If recreational landings for red porgy, as estimated by the SRD, exceed the recreational ACL of 197,652 lb (89,653 kg), round weight, then during the following fishing year, recreational landings will be monitored for a persistence in increased landings and, if necessary, the AA will file a notification with the Office of the Federal Register, to reduce the length of the following recreational fishing season by the amount necessary to ensure recreational landings do not exceed the recreational ACL in the following fishing year. However, the length of the recreational season will also not be reduced during the following fishing year if the RA determines, using the best scientific information available, that a reduction in the length of the following fishing season is unnecessary.

(23) Jolthead porgy, knobbed porgy, whitebone porgy, scup, and saucereye porgy complex—(i) Commercial sector—(A) If commercial landings for jolthead porgy, knobbed porgy, whitebone porgy, scup, and saucereye porgy, combined, as estimated by the SRD, reach or are projected to reach the commercial complex ACL of 35,129 lb (15,934 kg), round weight, the AA will file a notification with the Office of the Federal Register to close the commercial sector for this complex for the remainder of the fishing year. On and after the effective date of such a notification, all sale or purchase of jolthead porgy, knobbed porgy, whitebone porgy, scup, and saucereye porgy, is prohibited, and harvest or possession of these species in or from the South Atlantic EEZ is limited to the bag and possession limit. This bag and possession limit applies in the South Atlantic on board a vessel for which a valid Federal charter vessel/headboat permit for South Atlantic snapper-grouper has been issued, without regard to where such species were harvested, i.e. in state or Federal waters.

(B) If the combined commercial landings for this complex exceed the ACL, and at least one of the species in the complex is overfished, based on the most recent Status of U.S. Fisheries Report to Congress, the AA will file a notification with the Office of the Federal Register, at or near the beginning of the following fishing year to reduce the ACL for that following year by the amount of the overage in the prior fishing year.

(ii) Recreational sector. If recreational landings for jolthead porgy, knobbed porgy, whitebone porgy, scup, and saucereye porgy, combined, as estimated by the SRD, exceed the recreational ACL of 112,485 lb (51,022 kg), round weight, then during the following fishing year, recreational landings will be monitored for a persistence in increased landings and, if necessary, the AA will file a notification with the Office of the Federal Register, to reduce the length of the following recreational fishing season for this complex by the amount necessary to ensure recreational landings do not exceed the recreational ACL in the following fishing year. However, the length of the recreational season will also not be reduced during the following fishing year if the RA determines, using the best scientific information available, that a reduction in the length of the following fishing season is unnecessary.

(24) White grunt, sailor's choice, tomtate, and margate complex—(i) Commercial sector—(A) If commercial landings for white grunt, sailor's choice, tomtate, and margate, combined, as estimated by the SRD, reach or are projected to reach the commercial complex ACL of 214,624 lb (97,352 kg), round weight, the AA will file a notification with the Office of the Federal Register to close the commercial sector for this complex for the remainder of the fishing year. On and after the effective date of such a notification, all sale or purchase of white grunt, sailor's choice, tomtate, and margate, is prohibited, and harvest or possession of these species in or from the South Atlantic EEZ is limited to the bag and possession limit. This bag and possession limit applies in the South Atlantic on board a vessel for which a valid Federal charter vessel/headboat permit for South Atlantic snapper-grouper has been issued, without regard to where such species were harvested, i.e. in state or Federal waters.

(B) If the combined commercial landings for this complex exceed the ACL, and at least one of the species in the complex is overfished, based on the most recent Status of U.S. Fisheries Report to Congress, the AA will file a notification with the Office of the Federal Register, at or near the beginning of the following fishing year to reduce the ACL for that following year by the amount of the overage in the prior fishing year.

(ii) Recreational sector. If recreational landings for white grunt, sailor's choice, tomtate, and margate, as estimated by the SRD, exceed the recreational ACL of 562,151 lb (254,987 kg), round weight, then during the following fishing year, recreational landings will be monitored for a persistence in increased landings and, if necessary, the AA will file a notification with the Office of the Federal Register, to reduce the length of the following recreational fishing season for this complex by the amount necessary to ensure recreational landings do not exceed the recreational ACL in the following fishing year. However, the length of the recreational season will also not be reduced during the following fishing year if the RA determines, using the best scientific information available, that a reduction in the length of the following fishing season is unnecessary.

* * * * *

(e) Atlantic dolphin—(1) Commercial sector. If commercial landings for Atlantic dolphin, as estimated by the SRD, reach or are projected to reach the commercial ACL of 1,065,524 lb (483,314 kg), round weight, the AA will file a notification with the Office of the Federal Register to close the commercial sector for the remainder of the fishing year. On and after the effective date of such a notification, all sale or purchase of Atlantic dolphin is prohibited and harvest or possession of this species in or from the South Atlantic EEZ is limited to the bag and possession limit. This bag and possession limit applies in the South Atlantic on board a vessel for which a valid Federal charter vessel/headboat permit for South Atlantic snapper-grouper has been issued, without regard to where such species were harvested, i.e. in state or Federal waters.

(2) Recreational sector. If recreational landings for Atlantic dolphin, as estimated by the SRD, exceed the recreational ACL of 13,530,692 lb (6,137,419 kg), round weight, then during the following fishing year, recreational landings will be monitored for a persistence in increased landings and, if necessary, the AA will file a notification with the Office of the Federal Register, to reduce the length of the following recreational fishing season by the amount necessary to ensure recreational landings do not exceed the recreational ACL in the following fishing year. However, the length of the recreational season will also not be reduced during the following fishing year if the RA determines, using the best scientific information available, that a reduction in the length of the following fishing season is unnecessary.

(f) Atlantic wahoo—(1) Commercial sector. If commercial landings for Atlantic wahoo, as estimated by the SRD, reach or are projected to reach the commercial ACL of 64,147 lb (29,097 kg), round weight, the AA will file a notification with the Office of the Federal Register to close the commercial sector for the remainder of the fishing year. On and after the effective date of such a notification, all sale or purchase of Atlantic wahoo is prohibited and harvest or possession of this species in or from the South Atlantic EEZ is limited to the bag and possession limit. This bag and possession limit applies in the South Atlantic on board a vessel for which a valid Federal charter vessel/headboat permit for South Atlantic snapper-grouper has been issued, without regard to where such species were harvested, i.e. in state or Federal waters.

(2) Recreational sector. If recreational landings for Atlantic wahoo, as estimated by the SRD, exceed the recreational ACL of 1,427,638 lb (647,566 kg), round weight, then during the following fishing year, recreational landings will be monitored for a persistence in increased landings and, if necessary, the AA will file a notification with the Office of the Federal Register, to reduce the length of the following recreational fishing season by the amount necessary to ensure recreational landings do not exceed the recreational ACL in the following fishing year. However, the length of the recreational season will also not be reduced during the following fishing year if the RA determines, using the best scientific information available, that a reduction in the length of the following fishing season is unnecessary.

(g) South Atlantic golden crab—(1) Commercial sector—(i) If commercial landings for golden crab, as estimated by the SRD, reach or are projected to reach the ACL of 2 million lb (907,185 kg), round weight, the AA will file a notification with the Office of the Federal Register to close the golden crab fishery for the remainder of the fishing year. On and after the effective date of such a notification, all harvest, possession, sale or purchase of golden crab in or from the South Atlantic EEZ is prohibited.

(ii) If commercial landings exceed the ACL, and golden crab are overfished, based on the most recent Status of U.S. Fisheries Report to Congress, the AA will file a notification with the Office of the Federal Register, at or near the beginning of the following fishing year to reduce the ACL for that following year by the amount of the overage in the prior fishing year.

(2) [Reserved]

* * * * *

14. In Appendix A to part 622, Table 4 is revised to read as follows:

Appendix A to Part 622—Species Tables

* * * * *

Table 4 of Appendix A to Part 622—South Atlantic Snapper-Grouper
Balistidae—Triggerfishes:
Gray triggerfish, Balistes capriscus
Carangidae—Jacks:
Blue runner, Caranx bartholomaei
Bar jack, Caranx ruber
Greater amberjack, Seriola dumerili
Lesser amberjack, Seriola fasciata
Almaco jack, Seriola rivoliana
Banded rudderfish, Seriola zonata
Ephippidae—Spadefishes:
Spadefish, Chaetodipterus faber
Haemulidae—Grunts:
Margate, Haemulon album
Tomtate, Haemulon aurolineatum
Sailor's choice, Haemulon parrai
White grunt, Haemulon plumieri
Labridae—Wrasses:
Hogfish, Lachnolaimus maximus
Lutjanidae—Snappers:
Black snapper, Apsilus dentatus
Queen snapper, Etelis oculatus
Mutton snapper, Lutjanus analis
Blackfin snapper, Lutjanus buccanella
Red snapper, Lutjanus campechanus
Cubera snapper, Lutjanus cyanopterus
Gray snapper, Lutjanus griseus
Mahogany snapper, Lutjanus mahogoni
Dog snapper, Lutjanus jocu
Lane snapper, Lutjanus synagris
Silk snapper, Lutjanus vivanus
Yellowtail snapper, Ocyurus chrysurus
Vermilion snapper, Rhomboplites aurorubens
Malacanthidae—Tilefishes:
Blueline tilefish, Caulolatilus microps
Golden tilefish, Lopholatilus chamaeleonticeps
Sand tilefish, Malacanthus plumieri
Percichthyidae—Temperate basses:
Wreckfish, Polyprion americanus
Serranidae—Groupers:
Rock hind, Epinephelus adscensionis
Graysby, Epinephelus cruentatus
Speckled hind, Epinephelus drummondhayi
Yellowedge grouper, Epinephelus flavolimbatus
Coney, Epinephelus fulvus
Red hind, Epinephelus guttatus
Goliath grouper, Epinephelus itajara
Red grouper, Epinephelus morio
Misty grouper, Epinephelus mystacinus
Warsaw grouper, Epinephelus nigritus
Snowy grouper, Epinephelus niveatus
Nassau grouper, Epinephelus striatus
Black grouper, Mycteroperca bonaci
Yellowmouth grouper, Mycteroperca interstitialis
Gag, Mycteroperca microlepis
Scamp, Mycteroperca phenax
Yellowfin grouper, Mycteroperca venenosa
Serranidae—Sea Basses:
Black sea bass, Centropristis striata
Sparidae—Porgies:
Grass porgy, Calamus arctifrons
Jolthead porgy, Calamus bajonado
Saucereye porgy, Calamus calamus
Whitebone porgy, Calamus leucosteus
Knobbed porgy, Calamus nodosus
Red porgy, Pagrus pagrus
Scup, Stenotomus chrysops
The following species are designated as ecosystem component species:
Cottonwick, Haemulon melanurum
Bank sea bass, Centropristis ocyurus
Rock sea bass, Centropristis philadelphica
Longspine porgy, Stenotomus caprinus
Ocean triggerfish, Canthidermis sufflamen
Schoolmaster, Lutjanus apodus

[FR Doc. 2012-6450 Filed 3-15-12; 8:45 am]

BILLING CODE 3510-22-P